DEPARTMENT OF ENERGY

Energy Information Administration

Agency Information Collection Activities: Submission for OMB Review; Comment Request

AGENCY: U.S. Energy Information Administration (EIA), Department of Energy (DOE).

ACTION: Agency Information Collection Activities: Submission For OMB Review; Comment Request.

SUMMARY: The EIA has submitted the “Voluntary Reporting of Greenhouse Gases,” form EIA-1605 to the Office of Management and Budget (OMB) for review and a three-year extension under section 3507(h)(1) of the Paperwork Reduction Act of 1995 (Pub. L. 104-13)(44 U.S.C. 3501 et seq.).

DATES: Comments must be filed by August 26, 2010. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by FAX (202-395-7285) or e-mail to Christine_J._Kymn@omb.eop.gov. is recommended. The mailing address is 725 17th St., NW., Washington, DC, 20503. The OMB Desk Officer may be telephoned at (202) 395-4638. (A copy of your comments should also be provided to EIA's Statistics and Methods Group at the address below.)

FOR FURTHER INFORMATION CONTACT: Requests for additional information should be directed to Alethea Jennings. To ensure receipt of the comments by the due date, submission by FAX (202-586-5271) or e-mail (alethea.jennings@eia.doe.gov) is also recommended. The mailing address is Statistics and Methods Group (EI-70), Forrestal Building, U.S. Department of Energy, 1000 Independence Ave., SW., Washington, DC, 20585-0670. Ms. Jennings may be contacted by telephone at (202) 586-5879.

SUPPLEMENTARY INFORMATION: This section contains the following information about the energy information collection submitted to OMB for review: (1) The collection numbers and title; (2) the sponsor (i.e., the Department of Energy component); (3) the current OMB docket number (if applicable); (4) the type of request (i.e., new, revision, extension or reinstatement); (5) response obligation (i.e., mandatory, voluntary, or required to obtain or retain benefits); (6) a description of the need for and proposed use of the information; (7) a categorical description of the likely respondents; (8) estimate number of respondents and (9) an estimate of the total annual reporting burden (i.e., the estimated number of likely respondents times the proposed frequency of response per year times the average hours per response).

1. Forms EIA-1605, “Voluntary Reporting of Greenhouse Gases”.

2. Energy Information Administration.

3. OMB Number 1905-0194.

4. Three-year extension to an existing approved request.

5. Voluntary.

6. EIA-1605 form is designed to collect voluntarily reported data on greenhouse gas emissions, achieved reductions of these emissions, and carbon fixation. Data are used to establish a publicly available database. Respondents are participants in a domestic or foreign activity that either reduces greenhouse gas emissions or increases sequestration.

7. Individuals or households; business or other for-profit institutions; farms; Federal government; State, local or tribal government.

8. Estimate number of respondents.

9. 6000 hours.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, Public Law 93-275, codified at 15 U.S.C. 772(b).

Issued in Washington, D.C., July 20, 2010.
Stephanie Brown,
Director, Statistics and Methods Group, Energy Information Administration.

[FR Doc. 2010-18353 Filed 7-26-10; 8:45 am]

BILLING CODE 6450-01-P